DEPARTMENT OF ENERGY

Federal Energy Regulatory Commission

[Docket No. RP02-166-001]

Florida Gas Transmission Company; Notice of Compliance Filing

April 23, 2002.

Take notice that on April 17, 2002, Florida Gas Transmission Company (FGT) tendered for filing to become part of its FERC Gas Tariff, Third Revised Volume No. 1, the following tariff sheets, effective April 1, 2002:

Substitute Fourth Revised Sheet No. 528

Substitute Third Revised Sheet No. 529

Substitute Fourth Revised Sheet No. 530

Substitute Third Revised Sheet No. 531

Substitute Third Revised Sheet No. 532

Substitute Fourth Revised Sheet No. 533

Original Sheet No. 533A

Substitute Fourth Revised Sheet No. 534

Substitute Fourth Revised Sheet No. 535

Substitute First Revised Sheet No. 535.01

Substitute Third Revised Sheet No. 535A

Substitute Third Revised Sheet No. 536

Substitute Third Revised Sheet No. 537

Substitute Third Revised Sheet No. 538

Substitute Original Sheet No. 538A

Substitute Original Sheet No. 538B

Substitute Original Sheet No. 538C

Substitute Original Sheet No. 538D

Substitute Third Revised Sheet No. 539

Substitute Fourth Revised Sheet No. 540

Substitute Fourth Revised Sheet No. 541

Substitute Fourth Revised Sheet No. 542

FGT states that on December 1, 1999, in Docket No. CP00-40-000, FGT filed for authorization to expand the capacity of its system in order to provide incremental firm transportation service pursuant to Rate Schedule FTS-2 (“Phase V Certificate Application”). Included as part of the Phase V Certificate Application were the Phase V shippers' FTS-2 service agreements. FGT states that in its Preliminary Determination on Nonenvironmental Issues dated November 22, 2000 (“PD”) the Commission noted that these service agreements contained certain variations from the FTS-2 Form of Service Agreement contained in FGT's Tariff. The PD directed FGT “to refile them so that they conform with the FTS-2 Form of Service Agreement in its tariff or to develop a generally applicable FTS-2 Form of Service Agreement to conform with the Phase V agreements.”

FGT further states that on February 28, 2002, in Docket No. RP02-166-000, FGT filed tariff revisions to its FTS-2 Form of Service Agreement (“February 28 Filing”) in response to the Commission's requirements in the PD. The February 28 Filing was rejected by Commission order issued March 28, 2002 (“March 28 Order”). The March 28 Order directs FGT to file tariff changes modifying its FTS-2 Form of Service Agreement to match the provisions of the Phase V shippers' FTS-2 service agreements. In addition, FGT is instructed to include a narrative explanation and a matrix that matches up each Phase V contract provision with each proposed FTS-2 Form Agreement provision, including justification for any contract provision that deviates from the proposed FTS-2 Form Agreement. The ordering paragraphs of the March 28 Order further direct FGT to make these changes within twenty days from the issue date of the order and to make the terms and conditions of service under the Phase V contracts available to all new FTS-2 shippers. FGT states that the instant filing is submitted in compliance with the March 28 Order. The instant filing also includes minor corrections, as well as changes to update or clarify certain provisions contained in the FTS-2 Form Agreement.

Any person desiring to protest said filing should file a protest with the Federal Energy Regulatory Commission, 888 First Street, NE, Washington, DC 20426, in accordance with Section 385.211 of the Commission's Rules and Regulations. All such protests must be filed in accordance with Section 154.210 of the Commission's Regulations. Protests will be considered by the Commission in determining the appropriate action to be taken, but will not serve to make protestants parties to the proceedings. Copies of this filing are on file with the Commission and are available for public inspection. This filing may also be viewed on the Web at http://www.ferc.gov using the “RIMS” link, select “Docket#” and follow the instructions (call 202-208-2222 for assistance). Comments, protests and interventions may be filed electronically via the Internet in lieu of paper. See, 18 CFR 385.2001(a)(1)(iii) and the instructions on the Commission's Web site under the “e-Filing” link.

Magalie R. Salas,
Secretary.

[FR Doc. 02-10450 Filed 4-26-02; 8:45 am]

BILLING CODE 6717-01-P